DEPARTMENT OF THE INTERIOR

National Park Service

[NPS-SERO-SAJU-11286; 5331-0901-630]

Notice of Intent To Prepare an Environmental Impact Statement for the Paseo del Morro National Recreational Trail Extension, San Juan National Historic Site, San Juan, Puerto Rico

AGENCY: National Park Service, Interior.

ACTION: Notice of Intent.

SUMMARY: Pursuant to the National Environmental Policy Act of 1969 (42 U.S.C. 4332) (2) (C), the National Park Service (NPS) will prepare an Environmental Impact Statement for the Paseo del Morro National Recreational Trail Extension (EIS). The EIS will include the involvement of multiple entities, including the Municipality of San Juan and the Commonwealth of Puerto Rico and neighborhoods along the trail corridor. Segments of the extension within and outside of the NPS boundary might include several amenities such as: Pedestrian trails, bicycle trail, Plaza, access to the Santa Maria Magdalena Cemetery, viewpoints, pocket seating areas, and drinking fountains. The project would be constructed in four phases according to the segments within the project extension. The first segment would run parallel to the Santa Maria Magdalena Cemetery, the second segment parallel to the community of La Perla, the third segment along the coastal area of Castillo San Cristobal, and the fourth segment through the “Lomita de Los Vientos”. The characteristics of the trail, such as width of the primary and secondary trails, amenities, complementary programs, activities and methods of construction, would vary in the different segments of the projects.

The objectives of the project are: To create public access to the North Coast of the Old San Juan Islet and create recreational public space along coastal area in front of Old San Juan, protect the historic walls of El Morro, encourage educational tourism within the area. The DEIS will assess potential environmental impacts associated with a range of reasonable alternatives for extension of the Paseo del Morro on park resources such as existing flora and fauna, soils, cultural resources, and public safety. Socioeconomic impacts and effects on visitor experience will also be analyzed.

DATES: Interested individuals, organizations, and agencies are encouraged to provide written comments or suggestions to assist the NPS in determining the scope of issues to be addressed in the EIS, identifying significant issues, and identifying reasonable alternatives. The NPS will accept comments from the public for January 14, 2013. The NPS will conduct a public scoping meeting in San Juan, Puerto Rico. When the public scoping meeting has been scheduled, its location, date, and time will be published in local media and on the NPS's Planning, Environment and Public Comment Web site: http://parkplanning.nps.gov/saju. Written comments must be received prior to the close of the scoping period or 15 days after the last public meeting, whichever is later. The NPS will provide additional opportunities for public participation upon publication of the draft EIS.

ADDRESSES: If you wish to provide scoping comments or suggestions, you may submit your comments by any one of several methods. The preferred method for submitting comments is via the internet at http://parkplanning.nps.gov/saju. Select “Paseo del Morro National Recreational Trail Extension” to reach the comment site. Written comments may also be sent to: Walter Chavez, Superintendent, San Juan National Historic Site, 501 Calle Norzagaray, San Juan, Puerto Rico 00901.

Before including your address, phone number, email address, or other personal identifying information in your comment, you should be aware that your entire comment—including your personal identifying information—may be made publicly available at any time. While you can ask us in your comment to withhold your personal identifying information from public review, we cannot guarantee that we will be able to do so. We will always make submissions from organizations or businesses, and from individuals identifying themselves as representatives of or officials of organizations or businesses, available for public inspection in their entirety.

FOR FURTHER INFORMATION CONTACT: Information about the proposed action, the EIS, and the scoping process may be obtained from Mr. Walter Chavez at San Juan National Historic Site by phone at (787) 729-6777; or email walter_chavez@nps.gov. Additional information can be found on the NPS Planning, Environment, and Public Comment (PEPC) Web site, http://parkplanning.nps.gov/saju. Select “Paseo del Morro National Recreational Trail Extension.”

SUPPLEMENTARY INFORMATION:

The park has involved the community in information gathering for developing a shared vision for the Paseo del Morro National Recreational Trail Extension as part of an effort led by the NPS Rivers, Trails, and Conservation Assistance (RTCA) Program. Meetings were held with the community in January 2010, August 2010, March 2011, and October 2011, to begin discussions on trail extension and connectivity. The development of the Draft EIS will use the information gathered in those meetings, along with future meetings in collaboration with the RTCA Program, to assist with alternative development.

The NPS will provide additional opportunities for the public to provide written comments upon publication of the Draft EIS. The NPS welcomes public participation by Federal, State, and local agencies as well as other concerned organizations and private citizens throughout the preparation process of the EIS.

The responsible official for this EIS is David Vela, Regional Director, Southeast Region, National Park Service, 100 Alabama Street SW., 1924 Building, Atlanta, Georgia 30303.

Dated: November 7, 2012.
Gordon Wissinger,
Acting Regional Director, Southeast Region.

[FR Doc. 2012-27758 Filed 11-14-12; 8:45 am]

BILLING CODE 4310-JD-P